DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration, Wage and Hour Division, is soliciting comments concerning the proposed collection “Application for Federal Certificate of Age”(WH-14).” A copy of the proposed information collection request can be obtained by contacting the office listed below in the addressee section of this Notice.

DATES: Written comments must be submitted to the office listed in the addressee section below on or before October 15, 2002.

ADDRESSES: Ms. Patricia A. Forkel, U.S. Department of Labor, 200 Constitution Ave., NW., Room S-3201, Washington, DC 20210, telephone (202) 693-0339, fax (202) 693-1451, e-mail pforkel@fenix2.dol-esa.gov. Please use only one method of transmission for comments (mail, fax, or e-mail).

SUPPLEMENTARY INFORMATION:

I. Background

Section 3(1) of the Fair Labor Standards Act (FLSA) provides, in part, that an employer may protect against unwitting employment of “oppressive child labor” [as defined in section 3(1)], by having on file a certificate issued pursuant to Department of Labor (DOL) regulations certifying that the named person meets the FLSA minimum wage requirements for employment. Section 11(c) of the FLSA requires that all employers covered by the Act make, keep, and preserve records of wages, hours, and other conditions and practices of employment with respect to their employees. Regulations 29 CFR part 570, subpart B, set forth the requirements for obtaining certifications of age. State age, employment or working certificates which substantially meet the Federal regulatory requirements for certificates of age are an acceptable alternative to obtaining a Federal Certificate of Age. Form WH-14 is the application which is to be completed by the youth and prospective employer to obtain a Federal Certificate of Age in those States where no State certificates are issued or State certificates do not meet the Federal regulatory requirements. This information collection is currently approved by the Office of Management and Budget (OMB) for use through January 2003.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks an extension of approval of the information collection to protect employers from unwitting violation of the minimum age standards of the Fair Labor Standards Act. There is no change to the form or method of collection.

Type of Review: Extension.

Agency: Employment Standards Administration.

Title: Application for Federal Certificate of Age.

OMB Number: 1215-0083.

Agency Number: WH-14.

Affected Public: Businesses or other for-profit; individuals or households; not-for-profit institutions; farms; State, Local or Tribal Government.

Total Respondents: 10.

Total Responses: 10.

Burden Hours per Response(Reporting): 10 minutes.

Burden Hours Per Response: (Recordkeeping): ½ minute.

Total Burden Hours: (Reporting and Recordkeeping): 2.

Total Burden Cost: (capital/startup): $0.

Total Burden Cost: (operation/maintenance): $4.00.

Comments submitted in response to this notice will be summarized and/or included in the request for Office of Management and Budget approval of the information collection request; they will also become a matter of public record.

Dated: August 8, 2002.
Margaret J. Sherrill,
Chief, Branch of Management Review and Internal Control, , Division of Financial Management, Office of Management, Administration and Planning, Employment Standards Administration.

[FR Doc. 02-20609 Filed 8-13-02; 8:45 am]

BILLING CODE 4510-27-P